COMMITTEE FOR THE IMPLEMENTATION OF TEXTILE AGREEMENTS

New Export Visa Stamp for Certain Wool Textile Products Produced or Manufactured in Russia

March 14, 2001.

AGENCY: Committee for the Implementation of Textile Agreements (CITA).

ACTION: Issuing a directive to the Commissioner of Customs providing for the use of a new export visa stamp.

EFFECTIVE DATE: April 1, 2001.

FOR FURTHER INFORMATION CONTACT: Naomi Freeman, International Trade Specialist, Office of Textiles and Apparel, U.S. Department of Commerce, (202) 482-4212.

SUPPLEMENTARY INFORMATION:

Authority: Section 204 of the Agricultural Act of 1956, as amended (7 U.S.C. 1854); Executive Order 11651 of March 3, 1972, as amended.

Beginning on April 1, 2001, the Government of the Russian Federation will start issuing a new export visa stamp for shipments of wool textile products in Category 435, produced or manufactured in Russia, and exported from Russia on or after April 1, 2001. The new visa stamp reflects a name change from “MINISTRY OF TRADE“ to “MINISTRY OF ECONOMIC DEVELOPMENT AND TRADE” but is otherwise unchanged. There will be a one-month grace period from April 1, 2001 through April 30, 2001, during which products exported from Russia may be accompanied by either the old or new export visa stamp. Products exported from Russia on or after May 1, 2001 must be accompanied by the new export visa stamp.

See 62 FR 4729, published on January 31, 1997.

D. Michael Hutchinson,
Acting Chairman, Committee for the Implementation of Textile Agreements.

Committee for the Implementation of Textile Agreements

March 14, 2001.

Commissioner of Customs,

Department of the Treasury, Washington, DC 20229.

Dear Commissioner: This directive amends, but does not cancel, the directive issued to you on January 28, 1997, as amended, by the Chairman, Committee for the Implementation of Textile Agreements. That directive directed you to prohibit entry of certain wool textile products in Category 435, produced or manufactured in Russia for which the Government of the Russian Federation has not issued an appropriate export visa.

Beginning on April 1, 2001, you are directed to amend further the directive dated January 28, 1997 to provide for the use of a new export visa stamp issued by the Government of the Russian Federation to accompany shipments of wool textile products in Category 435, produced or manufactured in Russia, and exported from Russia on or after April 1, 2001. The new visa stamp reflects a name change from “MINISTRY OF TRADE” to “MINISTRY OF ECONOMIC DEVELOPMENT AND TRADE” but is otherwise unchanged.

Textile products exported from Russia during the period April 1, 2001 through April 30, 2001 may be accompanied by either the old or new export visa stamp. Products exported from Russia on or after May 1, 2001 must be accompanied by the new export visa stamp.

A facsimile of the new visa stamp is enclosed with this letter.

Shipments entered or withdrawn from warehouse according to this directive which are not accompanied by an appropriate export visa shall be denied entry and a new visa must be obtained.

The Committee for the Implementation of Textile Agreements has determined that this action falls within the foreign affairs exception to the rulemaking provisions of 5 U.S.C. 553(a)(1).

Sincerely,
D. Michael Hutchinson,
Acting Chairman, Committee for the Implementation of Textile Agreements.

BILLING CODE 3510-DR-F

[FR Doc. 01-6835 Filed 3-19-01; 8:45 am]

BILLING CODE 3510-DR-C